DEPARTMENT OF TRANSPORTATION

Federal Aviation Administration

14 CFR Part 11

[Docket No. FAA-2016-9064; Amdt. No. 11-61]

RIN 2120-AJ60

Approval of Information Collections for Operation and Certification of Small Unmanned Aircraft Systems

AGENCY: Federal Aviation Administration (FAA), Department of Transportation (DOT).

ACTION: Final rule.

SUMMARY: On June 28, 2016, the FAA published a final rule entitled Operation and Certification of Small Unmanned Aircraft Systems (81 FR 42063) which will result in new information collection requirements. This rule updates the FAA's list of OMB control numbers to display the control numbers associated with the approved information collection activities in the final rule.

DATES: Effective August 29, 2016.

FOR FURTHER INFORMATION CONTACT: Everette Rochon, Manager, Commercial Operations Branch, AFS-820, Flight Standards Service, Federal Aviation Administration, 55 M Street SE., 8th Floor, Washington, DC 20003; telephone 1-844-FLY-MYUAS; email UAShelp@faa.gov.

SUPPLEMENTARY INFORMATION:

Background

On June 28, 2016, the FAA and the Office of the Secretary of Transportation published a final rule entitled Operation and Certification of Small Unmanned Aircraft Systems. The rule adds a new part 107 to Title 14 Code of Federal Regulations (14 CFR) to allow for routine civil operation of small unmanned aircraft systems (UAS) in the NAS and to provide safety rules for those operations. The final rule resulted in new and revised information collection requirements.

As required by the Paperwork Reduction Act of 1995 (44 U.S.C. 3507(d)), the FAA submitted these information collection amendments to OMB for its review. On August 12 and 15, 2016, OMB approved the information collection requests. The pertinent OMB control numbers are 2120-0005, 2120-0021, 2120-0027, 2120-0767, and 2120-0768.

Updating OMB Control Numbers in Part 11

The FAA lists OMB control numbers assigned to its information collection activities in 14 CFR 11.201(b). Accordingly, this final rule updates 14 CFR 11.201(b) to display OMB control numbers 2120-0005, 2120-0021, 2120-0027, 2120-0767, and 2120-0768 associated with the information collection activities in the final rule, Operation and Certification of Small Unmanned Aircraft Systems. See 81 FR 42063. This final rule also removes from 14 CFR 11.201(b) the OMB control numbers for 14 CFR parts 108 and 109, as those parts were removed by a joint FAA and Transportation Security Administration final rule, Civil Aviation Security Rules, published on February 22, 2002. See 67 FR 8340.

Because this rule concerns agency organization, procedure or practice, the FAA finds that the notice and public procedures under 5 U.S.C. 553(b)(3)(A) are unnecessary. For the same reason, the FAA finds good cause exists under 5 U.S.C. 553(d)(3) to make the amendment effective in less than 30 days.

List of Subjects in 14 CFR Part 11

Administrative practice and procedure, Reporting and recordkeeping requirements.

The Amendment

In consideration of the foregoing the Federal Aviation Administration amends Chapter I of Title 14 Code of Federal Regulations as follows:

PART 11—GENERAL RULEMAKING PROCEDURES

1. The authority citation for part 11 continues to read as follows:

Authority: 49 U.S.C. 106(f), 106(g), 40101, 40103, 40105, 40109, 40113, 44110, 44502, 44701-44702, 44711, and 46102.

2. In § 11.201(b), revise the entry for part 107 and remove the entries for parts 108 and 109 to read as follows:

§ 11.201 Office of Management and Budget (OMB) control numbers assigned under the Paperwork Reduction Act.

* * * * *

(b) * * *

14 CFR part or section identified and described | Current OMB control No.
* * * * *
Part 107 | 2120-0005, 2120-0021, 2120-0027, 2120-0767, 2120-0768.
* * * * *

Issued in Washington, DC, under the authority provided by 49 U.S.C. 106(f) and 44701(a) on August 24, 2016.
Lirio Liu,
Director, Office of Rulemaking.

[FR Doc. 2016-20687 Filed 8-26-16; 8:45 am]

BILLING CODE 4910-13-P